Proclamation 10717 of March 29, 2024

National Cancer Prevention and Early Detection Month, 2024

By the President of the United States of America

A Proclamation

Cancer has touched nearly every American family. During National Cancer Prevention and Early Detection Month, we honor the enormous courage and strength of the millions of Americans facing the disease today and of the many millions of survivors, whose resilience inspires us all. Together, we will end cancer as we know it and get patients and families the quality care and support that they deserve.

In recent decades, we have made enormous progress toward beating cancer. In addition to new medicines and therapies, we have developed early detection methods and discovered prevention measures that extend and save lives. Studies have shown that over 30 percent of cancers diagnosed today could be prevented through methods like decreasing environmental and toxic exposures to carcinogens and making lifestyle changes like reducing tobacco use and improving nutrition. Still, cancer is the second-leading cause of death in our country.

I came to office determined to change that. Beating cancer is personal to my family, as it is to millions of families across America and around the world. That is why the First Lady and I re-ignited the Cancer Moonshot. The goal is to cut the cancer death rate by at least 50 percent in the next 25 years—starting by preventing the cancers we know we can stop and catching others as early as possible. We are also working to turn more cancers from death sentences into chronic diseases that people can live with and to create more supportive experiences for patients and their families. To help achieve that, I established the Advanced Research Projects Agency for Health, securing $4 billion in bipartisan funding to date to help the scientists, innovators, and public health professionals who are working day and night to improve the prevention, detection, and treatment of cancers and other deadly diseases. We are not just working toward incremental changes—we are looking for quantum leaps forward.

It is important for every American to know that cancer screenings are lifesaving—early detection can make all the difference in beating the disease. That is why my Administration is working to ensure that every American can get them. During my first year in office, we expanded coverage under the Affordable Care Act, which requires insurers to pay for cancer screenings and primary care visits. More Americans have insurance than under any President, ensuring that millions of Americans now have health coverage for those services and more. My Administration is also helping millions of families save an average of $800 per year on their health insurance premiums. To increase access to early detection, my Administration has partnered with community health centers to provide screenings closer to folks' homes, and we extended health care coverage for lung cancer screenings. Further, we have closed loopholes so that new stool-based screening tests and follow-up screenings do not lead to surprise costs for patients undergoing colonoscopies. Eliminating these barriers to screenings will save and extend countless lives. To learn your personal risk factors and know which screenings are right for you, please talk to your health care provider, visit cdc.gov/cancerscreening or cancer.gov/screeningtests, or call 1-800-4-CANCER for more information. We encourage everyone to schedule routine cancer screening appointments.

At the same time, healthy life habits—like maintaining a healthy body weight and reducing exposure to tobacco smoke—can prevent certain cancers, so we are working to help all Americans get and stay healthy. Our National Strategy on Hunger, Nutrition, and Health supports expanding incentives to purchase fruits and vegetables with SNAP, ensures more kids have access to free and nutritious school lunches, and expands access to nutrition and obesity counseling. For help with quitting smoking—the leading cause of cancer in America—visit SmokeFree.gov, call 1-800-QUIT-NOW, or text QUITNOW to 333888.

My Administration is working to reduce Americans' exposure to environmental toxins that can lead to cancer. Through our Bipartisan Infrastructure Law, my Administration has invested billions of dollars to clean up toxic sites and help States replace lead pipes and service lines, protecting millions of families from exposure to so-called “forever chemicals” and other contaminants that increase people's risk of getting cancer. I was also proud to sign the PACT Act, ensuring that veterans exposed to toxic substances during their military service get the cancer care and benefits that they deserve.

Ending cancer is the kind of big and ambitious goal that America has always embraced. For the patients fighting for a better day, the survivors who give us strength, the caregivers who share their hearts, the lives we have lost, and the lives we can save, let us recommit to this vital work.

NOW, THEREFORE, I, JOSEPH R. BIDEN JR., President of the United States of America, do hereby proclaim April 2024 as National Cancer Prevention and Early Detection Month. I encourage citizens, government agencies, private businesses, nonprofit organizations, and other interested groups to join in activities that will increase awareness of what Americans can do to prevent, detect, and beat cancer.

IN WITNESS WHEREOF, I have hereunto set my hand this twenty-ninth day of March, in the year of our Lord two thousand twenty-four, and of the Independence of the United States of America the two hundred and forty-eighth.

[FR Doc. 2024-07188

Filed 4-2-24; 8:45 am]

Billing code 3395-F4-P